DEPARTMENT OF AGRICULTURE

Agricultural Marketing Service

7 CFR Part 981

[Docket No. FV06-981-2 C]

Almonds Grown in California; Changes to Incoming Quality Control Requirements; Correction

AGENCY: Agricultural Marketing Service, USDA.

ACTION: Final rule; correction.

SUMMARY: The Agricultural Marketing Service (AMS) published in the Federal Register on November 8, 2006, a document concerning quality control requirements under the California almond marketing order. Language was inadvertently omitted in the regulatory text to specify that the changes apply to all almonds received by handlers beginning August 1, 2006.

DATES: Effective Date: December 6, 2006.

FOR FURTHER INFORMATION CONTACT: Maureen T. Pello, Assistant Regional Manager, or Kurt J. Kimmel, Regional Manager, California Marketing Field Office, Marketing Order Administration Branch, Fruit and Vegetable Programs, AMS, USDA, telephone: (559) 487-5901, Fax: (559) 487-5906, or e-mail: Maureen.Pello@usda.gov, or Kurt.Kimmel@usda.gov.

SUPPLEMENTARY INFORMATION: The AMS published a document in the Federal Register on November 8, 2006 (71 FR 65373) that inadvertently omitted language in the regulatory text to indicate that the changes apply to all almonds received by handlers beginning August 1, 2006. This document corrects the regulatory text.

List of Subjects in 7 CFR Part 981

Almonds, Marketing agreements, Nuts, Reporting and recordkeeping requirements.

Accordingly, 7 CFR part 981 is corrected by making the following correcting amendments:

PART 981—ALMONDS GROWN IN CALIFORNIA

1. The authority citation for 7 CFR part 981 continues to read as follows:

Authority: 7 U.S.C. 601-674

2. In § 981.442 revise the first sentence of paragraph (a)(4)(i) and the 11th sentence in paragraph (a)(5) to read as follows:

§ 981.442 Quality Control.

(a) * * *

(4) Disposition obligation. (i) Beginning August 1, 2006, the weight of inedible kernels in excess of 0.50 percent of kernel weight reported to the Board of any variety received by a handler shall constitute that handler's disposition obligation. * * *

(5) * * * Beginning August 1, 2006, at least 50 percent of a handler's total crop year inedible disposition obligation shall be satisfied with dispositions consisting of inedible kernels as defined in § 981.408: Provided, That this 50 percent requirement shall not apply to handlers with total annual obligations of less than 1,000 pounds. * * *

Dated: December 1, 2006.
Lloyd C. Day,
Administrator, Agricultural Marketing Service.

[FR Doc. 06-9545 Filed 12-1-06; 2:50 pm]

BILLING CODE 3410-02-P